DEPARTMENT OF COMMERCE

Foreign-Trade Zones Board

[S-50-2016]

Foreign-Trade Zone 186—Waterville, Maine; Application for Subzone, Flemish Master Weavers' Sanford, Maine

An application has been submitted to the Foreign-Trade Zones Board (the Board) by the City of Waterville, grantee of FTZ 186, requesting subzone status for the facility of Flemish Master Weavers, located in Sanford, Maine. The application was submitted pursuant to the provisions of the Foreign-Trade Zones Act, as amended (19 U.S.C. 81a-81u), and the regulations of the Board (15 CFR part 400). It was formally docketed on April 21, 2016.

The proposed subzone (4.80 acres) is located at 96 Gatehouse Road, Sanford, Maine. A notification of proposed production activity has been docketed separately and is being processed under 15 CFR 400.37 (Docket B-18-2016, 81 FR 22210, April 15, 2015). The proposed subzone would be subject to the existing activation limit of FTZ 186.

In accordance with the Board's regulations, Kathleen Boyce of the FTZ Staff is designated examiner to review the application and make recommendations to the Executive Secretary.

Public comment is invited from interested parties. Submissions shall be addressed to the Board's Executive Secretary at the address below. The closing period for their receipt is June 7, 2016. Rebuttal comments in response to material submitted during the foregoing period may be submitted during the subsequent 15-day period to June 22, 2016.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Kathleen Boyce at Kathleen.Boyce@trade.gov or 202-482-1346.

Dated: April 21, 2016.
Andrew McGilvray,
Executive Secretary.

[FR Doc. 2016-09964 Filed 4-27-16; 8:45 am]

BILLING CODE 3510-DS-P